DEPARTMENT OF JUSTICE

Supplemental Notice of Lodging of Consent Decree Under the Clean Water Act

On January 14, 2009, the Department of Justice published notice of the December 31, 2008, lodging of a proposed consent in United States and State of Oregon v. Pacific Northern Environmental Corp., dba Dedicated Fuels, Inc., Civil Action No. 3:08-cv-01513-HU (D. Or.). See 74 FR 2101 (Jan. 14, 2009).

The United States hereby supplements its notice because Appendix A to the proposed consent decree was omitted from the document when it was made available for public inspection. The period for submitting any comment on the proposed consent decree, including Appendix A, is hereby extended for a period of ten (10) days after the date of publication of this Supplemental Notice.

Robert E. Maher, Jr.,
Assistant Section Chief, Environmental Enforcement Section.

[FR Doc. E9-3217 Filed 2-13-09; 8:45 am]

BILLING CODE 4410-15-P